DEPARTMENT OF TRANSPORTATION

Federal Aviation Administration

14 CFR Part 39

[Docket No. FAA-2005-22157; Directorate Identifier 2005-CE-44-AD; Amendment 39-14464; AD 2006-02-12]

RIN 2120-AA64

Airworthiness Directives; Glaser-Dirks Flugzeugbau GmbH Models DG-100 and DG-400 Sailplanes and DG Flugzeugbau GmbH Models DG-500 Elan Series and DG-500M Sailplanes

Correction

In rule document 06-735 beginning on page 5584 in the issue of Thursday, February 2, 2006 make the following correction:

§39.13 [Corrected]

On page 5586, in §39.13(c), the table is corrected to read as follows:

Model | Serial numbers
DG-100 | All Serial Numbers.
DG-400 | All Serial Numbers.
DG-500 Elan Series | All Serial Numbers Through 5E23.
DG-500M | All Serial Numbers Through 5E23.

[FR Doc. C6-735 Filed 2-10-06; 8:45 am]

BILLING CODE 1505-01-D